DEPARTMENT OF EDUCATION

[Docket No.: ED-2024-SCC-0081]

Agency Information Collection Activities; Submission to the Office of Management and Budget for Review and Approval; Comment Request; Impact Aid Electronic Data Collection (EDC) Program Questionnaire

AGENCY: Office of the Elementary and Secondary Education (OESE), Department of Education (ED).

ACTION: Notice.

SUMMARY: In accordance with the Paperwork Reduction Act (PRA) of 1995, the Department is proposing an extension without change of a currently approved information collection request (ICR).

DATES: Interested persons are invited to submit comments on or before September 23, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Andrew Brake, 202-453-6136.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Impact Aid Electronic Data Collection (EDC) Program Questionnaire.

OMB Control Number: 1810-0764.

Type of Review: An extension without change of a currently approved ICR.

Respondents/Affected Public: State, Local, and Tribal Governments.

Total Estimated Number of Annual Responses: 30.

Total Estimated Number of Annual Burden Hours: 8.

Abstract: The Impact Aid Program (IAP) in the Office of Elementary and Secondary Education (OESE) at the U.S. Department of Education (ED) requests an extension without change of the U.S. Office of Management and Budget (OMB) collection 1810-0764 for the Electronic Data Collection (EDC) Program Questionnaire. Local educational agencies (LEAs) are required to annually submit federally connected student count data with the grant application for Section 7003 Payments for Federally Connected Children. Traditionally, LEAs have used paper survey forms to collect this information. However, the IAP has allowed LEAs to demonstrate that they can successfully collect this information electronically through student information systems (SIS). IAP has created a questionnaire to help LEAs and IAP determine if the electronic data collection can meet the statutory and regulatory requirements to successfully count their federally connected student counts.

Dated: August 20, 2024.
Kun Mullan,
PRA Coordinator, Strategic Collections and Clearance, Governance and Strategy Division, Office of Chief Data Officer, Office of Planning, Evaluation and Policy Development.

[FR Doc. 2024-18976 Filed 8-22-24; 8:45 am]

BILLING CODE 4000-01-P